DEPARTMENT OF COMMERCE

International Trade Administration

A-580-836]

Certain Cut-to-Length Carbon Quality Steel Plate from the Republic of Korea: Rescission of Antidumping Duty Administrative Review

AGENCY: Import Administration, International Trade Administration, Department of Commerce.

ACTION: Notice of Rescission of Antidumping Duty Administrative Review.

EFFECTIVE DATE: July 23, 2004

FOR FURTHER INFORMATION CONTACT: Michele Mire, AD/CVD Enforcement, Office 4, Import Administration, International Trade Administration, U.S. Department of Commerce, 14th Street and Constitution Avenue, NW, Washington, DC 20230; telephone: (202) 482-4711.

SUPPLEMENTARY INFORMATION:

Background

On February 3, 2004, the Department of Commerce (the Department) published a notice of opportunity to request an administrative review of the antidumping duty order on certain cut-to-length carbon quality steel plate from the Republic of Korea (Korea) covering the period February 1, 2003 through January 31, 2004 (69 FR 5125).

On March 23, 2004, pursuant to requests by respondent, Dongkuk Steel Mill Co., Ltd. (DSM), and domestic interested parties, International Steel Group Inc. (ISG) and Nucor Corporation (Nucor), the Department initiated an administrative review of DSM, Korea Iron & Steel Co., Ltd. (KISCO), and Union Steel Manufacturing Co. (Union Steel) covering the period February 1, 2003 through January 31, 2004. See Initiation of Antidumping and Countervailing Duty Administrative Reviews and Requests for Revocation in Part, 69 FR 15788, 15789 (March 26, 2004). On June 7, 2004, ISG withdrew its request for an administrative review of DSM, KISCO and Pohang Iron & Steel Co., Ltd. (POSCO).¹ On June 24, 2004, DSM withdrew its request for an administrative review. On June 25, 2004, Nucor withdrew its request for an administrative review of DSM, KISCO and Union Steel.

¹ The Department did not initiate an administrative review of POSCO because POSCO is excluded from the antidumping duty order on certain cut-to-length carbon quality steel plate from Korea. See Notice of Amendment of Final Determinations of Sales at Less Than Fair Value and Antidumping Duty Orders: Certain Cut-to-Length Carbon Quality Steel Plate Products From France, India, Indonesia, Italy, Japan and the Republic of Korea, 65 FR 6585 (February 10, 2000).

Rescission of Review

Section 351.213(d)(1) of the Department's regulations provides that the Department will rescind an administrative review in whole or in part if a party that requested a review withdraws its request within 90 days of the date of publication of the notice of initiation of the requested administrative review. Section 351.213(d)(1) also provides that the Department may extend the 90-day time limit for parties to withdraw their request for an administrative review. On June 7, 2004, June 24, 2004, and June 25, 2004, ISG, DSM, and Nucor, respectively, submitted letters withdrawing their requests that the Department conduct an administrative review of the period February 1, 2003 through January 31, 2004. Although Nucor withdrew its request for the review one day after the 90-day period had expired, the Department is rescinding the administrative review of the antidumping duty order on certain cut-to-length carbon quality steel plate from Korea for the period February 1, 2003 through January 31, 2004, because all parties who requested administrative reviews have withdrawn their requests, and it is otherwise reasonable to rescind the review. This action is consistent with the Department's practice. See e.g., Frozen Concentrated Orange Juice From Brazil; Final Results and Partial Rescission of Antidumping Duty Administrative Review, 67 FR 40913, 40914 (June 14, 2002) where, pursuant to a request filed after the 90-day deadline, the Department rescinded the review with respect to one respondent because the review of that respondent had not progressed beyond a point where it would have been unreasonable to grant the request for rescission.

This notice is in accordance with section 777(i)(1) of the Tariff Act of 1930, as amended, and section 351.213(d)(4) of the Department's regulations.

Dated: July 16, 2004.
Susan Kuhbach,
Acting Deputy Assistant Secretary for Group I Import Administration.

[FR Doc. 04-16866 Filed 7-22-04; 8:45 am]

BILLING CODE 3510-DS-S